DEPARTMENT OF AGRICULTURE

U.S. Codex Office

Codex Committee Meeting of the Codex Committee on Food Additives

AGENCY: U.S. Codex Office, USDA.

ACTION: Notice of public meeting and request for comments.

SUMMARY: The U.S Codex Office is sponsoring a public meeting on January 21, 2020. The objective of the public meeting is to provide information and receive public comments on agenda items and draft United States (U.S.) positions to be discussed at the 52nd Session of the Codex Committee on Food Additives (CCFA) of the Codex Alimentarius Commission, in Lanzhou, China, March 2-6, 2020. The U.S. Manager for Codex Alimentarius and the Under Secretary for Trade and Foreign Agricultural Affairs recognize the importance of providing interested parties the opportunity to obtain background information on the 52nd Session of the CCFA and to address items on the agenda.

DATES: The public meeting is scheduled for January 21, 2020, from 9:00-12:00 EST.

ADDRESSES: The public meeting will take place in Meeting Room 1A-001 and 1A-002 of the Wiley Auditorium of the U.S. Food and Drug Administration (FDA) Harvey H. Wiley Building, 5001 Campus Drive, College Park, MD 20740. Documents related to the 52nd Session of the CCFA will be accessible via the internet at the following address: http://www.fao.org/fao-who-codexalimentarius/meetings/en/.

Dr. Paul Honigfort, U.S. Delegate to the 52nd Session of the CCFA, invites U.S. interested parties to submit their comments electronically to the following email address: paul.honigfort@hds.hhs.gov.

Call-In-Number: If you wish to participate in the public meeting for the 52nd Session of the CCFA by conference call, please use the call-in-number: 888-844-9904 and participant code 5126092.

Registration: Attendees may register to attend the public meeting by emailing uscodex@usda.gov by January 17, 2020. Early registration is encouraged because it will expedite entry into the building. The meeting will take place in a Federal building. Attendees should bring photo identification and plan for adequate time to pass through the security screening systems. Attendees who are not able to attend the meeting in person, but who wish to participate, may do so by phone, as discussed above.

For Further Information about the 52nd Session of the CCFA, contact U.S. Delegate, Dr. Paul Honigfort, Consumer Safety Officer, Division of Food Contact Notifications, Office of Food Additive Safety, U.S. Food and Drug Administration, 5001 Campus Drive, College Park, MD 20740, phone: +1 (204) 402-1206; email: paul.honigfort@fda.hhs.gov.

For Further Information about the public meeting Contact: U.S. Codex Office, 1400 Independence Avenue SW, Room 4861, South Agriculture Building, Washington, DC 20250. Phone 202 720 7760, Fax: (202) 720-3157, Email: uscodex@usda.gov.

SUPPLEMENTARY INFORMATION:

Background

Codex was established in 1963 by two United Nations organizations, the Food and Agriculture Organization and the World Health Organization. Through adoption of food standards, codes of practice, and other guidelines developed by its committees, and by promoting their adoption and implementation by governments, Codex seeks to protect the health of consumers and ensure fair practices in the food trade.

The Terms of Reference of the Codex Committee on Food Additives (CCFA) are:

(a) To establish or endorse permitted maximum levels for individual food additives;

(b) To prepare priority lists of food additives for risk assessment by the Joint FAO/WHO Expert Committee on Food Additives;

(c) To assign functional classes to individual food additives;

(d) To recommend specifications of identity and purity for food additives for adoption by the Codex Alimentarius Commission;

(e) To consider methods of analysis for the determination of additives in food; and

(f) To consider and elaborate standards or codes for related subjects such as the labelling of food additives when sold as such.

The CCFA is hosted by China. The United States attends the CCFA as a member country of Codex.

Issues To Be Discussed at the Public Meeting

The following items on the Agenda for the 52nd Session of the CCFA will be discussed during the public meeting:

• Matters referred by the Codex Alimentarius Commission and other subsidiary bodies

• Matters of interest arising from FAO/WHO and from the 87th Meeting of the Joint FAO/WHO Expert Committee on Food Additives (JECFA)

• Proposed draft specifications for identify and purity of food additives arising from the 87th JECFA meeting

• Endorsement and/or revision of maximum levels for food additives and processing aids in Codex standards

• Alignment of the food additive provisions of commodity standards: Report of the Electronic Working Group (EWG) on Alignment

• General Standard for Food Additives (GSFA): Report of the EWG on the GSFA

• General Standard for Food Additives (GSFA): Proposals for new and/or revision of food additive provisions

• Continuation of the discussion on the relevant provisions for sweeteners associated with Note 161

• General information on the availability of data related to nitrates and nitrites

• Proposed draft revision to the International Numbering System (INS) for Food Additives

• Proposals for additions and changes to the Priority List of Substances proposed by evaluation by JECFA

• Other business and future work

Public Meeting

At the January 21, 2020 public meeting, draft U.S. positions on the agenda items will be described and discussed, and attendees will have the opportunity to pose questions and offer comments. Written comments may be offered at the meeting or sent to Dr. Paul Honigfort, U.S. Delegate for the 52nd Session of the CCFA (see ADDRESSES). Written comments should state that they relate to activities of the 52nd Session of the CCFA.

Additional Public Notification

Public awareness of all segments of rulemaking and policy development is important. Consequently, the U.S. Codex Office will announce this Federal Register publication on-line through the USDA web page located at: https://www.usda.gov/codex, a link that also offers an email subscription service providing access to information related to Codex. Customers can add or delete their subscription themselves and have the option to password protect their accounts.

USDA Non-Discrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

How To File a Complaint of Discrimination

To file a complaint of discrimination, complete the USDA Program Discrimination Complaint Form, which may be accessed online at https://www.ocio.usda.gov/sites/default/files/docs/2012/Complain_combined_6_8_12.pdf, or write a letter signed by you or your authorized representative. Send your completed complaint form or letter to USDA by mail, fax, or email.

Mail: U.S. Department of Agriculture, Director, Office of Adjudication, 1400 Independence Avenue SW, Washington, DC 20250-9410.

Fax: (202) 690-7442, Email: program.intake@usda.gov.

Persons with disabilities who require alternative means for communication (Braille, large print, audiotape, etc.) should contact USDA's TARGET Center at (202) 720-2600 (voice and TDD).

Done at Washington, DC, on December 19, 2019.
Mary Lowe,
U.S. Manager for Codex Alimentarius.

[FR Doc. 2020-00162 Filed 1-8-20; 8:45 am]

BILLING CODE; P